DEPARTMENT OF THE INTERIOR

Bureau of Land Management

[L51010000 ER0000 LVRWE19E0450 19X LLMTC020000]

Notice of Availability of the Record of Decision for the Keystone XL Pipeline, Montana

AGENCY: Bureau of Land Management, Interior.

ACTION: Notice of availability.

SUMMARY: In accordance with the National Environmental Policy Act of 1969 (NEPA), as amended, the Bureau of Land Management (BLM) has prepared a Record of Decision. This Record of Decision is for a right-of-way for the portions of the Keystone XL Pipeline project that cross BLM and U.S. Army Corps of Engineers (USACE) lands in Montana. By this notice, the BLM is announcing the availability of the Record of Decision.

DATES: The Secretary of the Department of the Interior signed the Record of Decision on January 22, 2020.

ADDRESSES: Copies of the Record of Decision are available at the Montana/Dakotas State Office, 5001 Southgate Drive, Billings, MT 59101, or may be viewed online at: https://go.usa.gov/xdacn.

FOR FURTHER INFORMATION CONTACT: Jim Stobaugh, National Project Manager, BLM Nevada State Office, at telephone: (775) 861-6478, email: jstobaug@blm.gov, or at the above mailing address or website. Persons who use a telecommunications device for the deaf (TDD) may call the Federal Relay Service (FRS) at 1-800-877-8339 to contact Mr. Stobaugh during normal business hours. The FRS is available 24 hours a day, 7 days a week, to leave a message or question. You will receive a reply during normal business hours.

SUPPLEMENTARY INFORMATION: In September 2008, Keystone filed with the United States Department of State an initial application for a Presidential Permit to construct, operate, maintain, and (eventually) decommission the Keystone XL Pipeline to transport crude oil across the U.S./Canada border near Morgan, Montana, to Steele City, Nebraska, and then from Cushing, Oklahoma, to locations along the Texas Gulf of Mexico. The original application for Presidential Permit was amended and resubmitted on May 4, 2012 to modify the Project description to: (1) Avoid the Sand Hills Region in Nebraska; and (2) remove the southern segment of the Project from Cushing, Oklahoma, to the Gulf Coast area.

In addition to its application to the Department of State, Keystone also filed a right-of-way application in March 2008 under Section 28 of the Mineral Leasing Act of 1920, as amended, with the BLM. The right-of-way application was revised by Keystone in September 2012 and 2014 to reflect changes in the Project description. In November 2015, the Presidential Permit was denied. Due to the denial, Keystone requested to withdraw their right-of-way application with the BLM in February 2016.

In January 2017, Keystone refiled their application for a Presidential Permit with the Department of State. In February 2018, Keystone filed a revised right-of-way application and updated Plan of Development (POD) with the BLM to reinitiate processing their right-of-way application. In January 2020, Keystone updated the POD and reflected the most recent data on the project and clarifies minor route adjustments.

The BLM responded to Keystone's right-of-way application on Federal lands administered by the BLM and USACE to construct, operate, maintain, and (eventually) decommission the Project in compliance with the Mineral Leasing Act, BLM right-of-way regulations (43 CFR 2880), and other applicable Federal laws, regulations, and policies. The only Federal lands involved in this Project are BLM and USACE administered lands in the State of Montana. The State Department has been the Lead Federal Agency for the purposes of NEPA, and BLM and the USACE have been Cooperating Agencies from the beginning of this project.

On September 24, 2018, the Notice of Availability of the Draft Supplemental Environmental Impact Statement for the Proposed Keystone XL Pipeline Mainline Alternative Route in Nebraska (83 FR 48358) was published in the Federal Register, which provided for a 45-day public comment period. The Notice of Availability for the Final Supplemental EIS for the Keystone XL Pipeline was published in the Federal Register on December 20, 2019 (84 FR 70187).

The BLM adopted the Supplemental Environmental Impact Statements, and the Record of Decision to grant a right-of-way and temporary use permit for the Project pipeline and related facilities to TransCanada Keystone Pipeline, LP to construct, operate, maintain, and (eventually) decommission the Keystone XL Pipeline in Montana was signed on January 22, 2020.

(Authority: 40 CFR 1505.2)

Dated: January 22, 2020.
John Mehlhoff,
State Director, Montana/Dakotas BLM.

[FR Doc. 2020-01545 Filed 1-28-20; 8:45 am]

BILLING CODE 4310-DN-P